DEPARTMENT OF COMMERCE

Census Bureau

2007 Business Expenses Supplement

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 29, 2007.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) should be directed to Sheldon G. Ziman, BES Project Manager, Service Sector Statistics Division, U.S. Census Bureau, Room 8K168, Washington DC 20233; phone 301-763-6559 or toll free 888-211-5946; or e-mail sheldon.g.ziman@census.gov.

SUPPLEMENTARY INFORMATION:

I. Abstract

The U.S. Census Bureau is proposing a one-time supplement to its annual surveys of retail trade and wholesale distributors, to be conducted in 2008 covering the year 2007.

The Commerce Department's Bureau of Economic Analysis (BEA) has requested that business expense data be collected once every five years. The BEA considers this information as a vital ingredient in the preparation of key measures of the U.S. economy. This data collection will be known as the 2007 Business Expenses Supplement (BES) and will be implemented under the authority of the 2007 Economic Census, which is required by law to be taken every five years under Title 13 of the United States Code.

The 2007 BES is an extension of the annual surveys of retail trade and wholesale distributors, which are conducted on a sample basis with a new sample drawn every fifth year. The 2007 BES is a continuation of similar collections of business expenses data conducted every fifth year since 1977, and since 1958 on a more limited basis. Data collected by the BES on business operating expenses will complement data on sales, merchandise purchases, and inventories compiled in the two mentioned annual surveys. (Data on operating expenses of other industries are compiled in other Census Bureau programs.) Together these sample-based data are benchmarked to the main economic census and are used to compile economic measures such as value added. The collection of business expenses data is required for reliable measurement of the United States economy. As such, the BEA, producer of gross domestic product (GDP) estimates, is the primary user. The BEA uses the expenses data for developing the national income and product accounts, input-output tables, and economic indexes, and to fill previously identified critical gaps in underlying data in these accounts.

Industrial sectors covered by the BES include wholesale distributors, retail trade, and accommodation and food services, as based on the 2002 North American Industry Classification System (NAICS). The samples used in this data collection consist of employer firms in the covered industries within the U.S. whose probability of selection is determined by sales size.

The information collected will produce statistics by kind of business on operating expenses such as labor costs, depreciation, rent, materials and supplies, utilities, and purchased services such as advertising, repairs, computer services, and professional and technical services. The primary strategy for minimizing respondent burden is the use of sampling; supplementing the Bureau's business annual surveys as the data collection vehicle; optional electronic reporting; and providing for respondents' use of carefully prepared estimates if their book figures are not readily available.

II. Method of Collection

The 2007 BES supplements the Census Bureau's annual surveys of retail trade and wholesale distributors, which are conducted using both the Internet with CensusTaker software and mailout/mailback procedures. Most multi-location companies included in the samples will receive a separate annual/BES report form to consolidate their data for each unique kind of business operated. Only employer businesses will be mailed.

Data for non-employers for retail and accommodation and food service industries will be estimated based on administrative records. The questionnaires along with instructions for Internet reporting will be mailed from the Census Bureau's National Processing Center in Jeffersonville, Indiana. Three periodic mail follow-ups and a telephone follow-up will be conducted in conjunction with the annual surveys. These follow-ups will minimize statistical error due to nonresponse. In addition, responses will be accepted via Fax.

The BES response data will be edited and reviewed, and individual respondents contacted when necessary for clarification of questionable responses.

III. Data

OMB Number: None.

Form Number: None. All of the forms to be used to collect information for the BES are associated with the concurrent business annual surveys of wholesale distributors and retail trade.

Type of Review: Regular submission.

Affected Public: Incorporated and non-incorporated employer businesses in the U.S. classified as retail trade, wholesale distributors, or accommodation and food services.

Estimated Number of Respondents: 28,541.

Estimated Time per Response: 2.7 hours.

Estimated Total Annual Burden Hours: 77,060.

Estimated Total Annual Cost to Respondents: The total cost to respondents is estimated to be $2.4 million based on an hourly salary rate of $30.93 for entry level accountants and auditors multiplied by the annual response burden of 77,060 hours to complete the form.

Respondent's Obligation: Mandatory.

Legal Authority: Title 13, United States Code, Sections 131, 193, 195, and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 23, 2007.
Gwellnar Banks,
Management Analyst, Office of the Chief Information Officer.

[FR Doc. E7-5726 Filed 3-28-07; 8:45 am]

BILLING CODE 3510-07-P